DEPARTMENT OF TRANSPORTATION

National Highway Traffic Safety Administration

[Docket No. NHTSA-2022-0063]

Agency Information Collection Activities; Notice and Request for Comment; Drivers' Knowledge/Correct Use of New Technology Features in Passenger Vehicles

AGENCY: National Highway Traffic Safety Administration (NHTSA), Department of Transportation (DOT).

ACTION: Notice and request for comments on a request for approval of a new information collection.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on Drivers' Knowledge/Correct Use of New Technology Features in Passenger Vehicles.

DATES: Comments must be submitted on or before September 19, 2022.

ADDRESSES: You may submit comments identified by the Docket No. NHTSA-2022-0063 using any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Kathy Sifrit, Ph.D., Contracting Officer's Representative, Office of Behavioral Safety Research (NPD-320), National Highway Traffic Safety Administration, 1200 New Jersey Avenue SE, W46-470, Washington, DC 20590. Dr. Sifrit's phone number is 202-366-0868, and her email address is Kathy.Sifrit@dot.gov.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Drivers' Knowledge/Correct Use of New Technology Features in Passenger Vehicles.

OMB Control Number: New.

Form Numbers: NHTSA Forms 1627, 1628, 1629, and 1630.

Type of Request: Approval of a new information collection request.

Type of Review Requested: Regular.

Requested Expiration Date of Approval: 3 years from date of approval.

Summary of the Collection of Information

The National Highway Traffic Safety Administration (NHTSA) of the U.S. Department of Transportation is seeking approval for a one-time voluntary information collection from 180 of licensed drivers of various ages for a research study of drivers' interactions with Level 2 (L2) systems that can provide longitudinal (adaptive cruise control) and lateral (lane centering) control of the vehicle. NHTSA expects to provide screening questionnaires to 1,000 potential participants to determine their eligibility for the study. Recruiting participants for the study has an estimated burden of 250 hours for the screening questions. An estimated 200 potential participants will be eligible and interested. This group will receive the consent form with an estimated burden of 150 hours for reviewing and completing the form. An estimated 180 participants are expected to consent and enroll in the study. Participants' naturalistic driving data will be collected using a data acquisition system (DAS) installed in study-provided vehicles. The DAS includes video cameras and sensors; data also will be collected from the vehicle. Naturalistic driving data will be collected for two weeks with the L2 systems in this study unavailable to the drivers to provide a baseline measure of participants' driving habits, followed by four weeks driving with the systems available to measure changes in driving patterns as well as safety-related behaviors such as distracted driving and seat belt use. While the naturalistic data collection does not create a burden to participants, study tasks above and beyond the driving they would normally complete include a 15-minute enrollment procedure, a one-hour vehicle familiarization briefing, a two-hour training about the L2 systems, two two-hour planned drives (one at the beginning and one at the end of the study), five 30-minute planned drives (during the study), a five-minute usability questionnaire, and a 30-minute final debriefing. As such, the naturalistic study has an expected burden of 1,860 hours. In addition, half the participants will complete a 15-minute questionnaire that measures knowledge and opinions before exposure to the L2 systems and the other half will complete after exposure with an estimated burden of 45 hours. The total expected burden for this collection is 2,305 hours. NHTSA will use the information to produce a technical report containing summary statistics and tables. No identifying information or individual responses will be reported. The technical report will be made available to a variety of audiences interested in improving highway safety through the agency website and the National Transportation Library. This project involves approval by an institutional review board, which the contractor will obtain before contacting potential participants. This collection will inform the development of behavioral safety countermeasures, particularly in the areas of communications and training, intended to improve drivers' ability to use L2 systems safely.

Description of the Need for the Information and Proposed Use of the Information

NHTSA's mission is to save lives, prevent injuries, and reduce traffic-related health care and other economic costs. To further this mission, NHTSA conducts research as a foundation for the development of motor vehicle standards and traffic safety programs. Older adults comprise an increasing proportion of the driving population. Driving supports older adults' access to the goods and services they need and enhances their ability to take part in community and family activities that support quality of life. Vehicles equipped with L2 systems can reduce the cognitive load imposed by driving, which may make them appealing to older drivers who may find driving cognitively taxing, and to younger adults who may find the systems useful when navigating through heavy traffic or during long trips. However, drivers must understand what they can and cannot expect from L2 systems to use them safely and effectively. An increasing proportion of passenger vehicles are equipped with L2 systems which, under appropriate conditions, keep the vehicle centered in the lane and manage the vehicle's acceleration/braking to stay an appropriate distance from the vehicle ahead while maintaining driving speed. Research regarding driver understanding of L2 systems has been mixed. NHTSA is concerned that drivers may over-rely on L2 systems, and engage risky behaviors such as driving while distracted, drowsy, or under the influence of alcohol or drugs. NHTSA desires to learn more about how older and young adult drivers use these systems to better target behavioral countermeasures such as communications and training to ensure that drivers use the systems safely.

Affected Public: Study volunteers in the Blacksburg, VA, area. The study plans to recruit participants with little to no experience driving a vehicle with L2 systems. Of the 180 selected drivers, 60 will be age 70 and older, 60 will be between the ages of 35 and 55, and 60 will be between ages 18 and 25. Equal numbers of males and females will be recruited within each age group.

Estimated Number of Respondents: The study anticipates screening 1,000 potential participants to obtain 180 drivers who meet study inclusion criteria. NHTSA expects to provide screening questionnaires to 1,000 potential participants to determine their eligibility for the study. Based upon previous research experience in the study area, an estimated 200 potential participants (20% of those who respond to screener questions) will be eligible and interested. An estimated 180 participants (90% of those who receive the consent form) are expected to consent and enroll in the study.

Frequency: This study is a one-time information collection.

Estimated Total Annual Burden Hours: 2,305.

The annual estimated burden is 2,305 hours. This estimate includes 250 hours for 1,000 potential participants to complete the initial screening and 150 hours for 200 potential participants to review and complete the consent form. The burden estimate also includes 1,860 hours for the 180 consented and enrolled participants to complete all study tasks above and beyond the driving they would normally complete during the naturalistic driving observation periods. The study tasks include a 15-minute process for study enrollment, a 1-hour vehicle familiarization briefing, a 2-hour training about the L2 systems, two 2-hour planned drives (one at the beginning and one at the end of the study), five 30-minute planned drivers (during the study), a five-minute usability questionnaire, and a 30-minute final debriefing. In addition, half the participants will complete a 15-minute questionnaire that measures knowledge and opinions before exposure to L2 systems and the other half will complete the questionnaire after exposure with an estimated burden of 45 hours. The total burden is the sum of the burden across screening, consenting, and completing the study for a total estimate of 2,305 hours. The details are presented in Table 1 below.

Table 1—Estimated Burden Hours by Form
Form | Description | Participants | Estimated minutes per participant | Total estimated burden hours per form
Form 1627 | Screening Questionnaire | 1000 | 15 | 250
Form 1628 | Informed Consent Briefing | 200 | 45 | 150
Form 1629 | Knowledge & Opinion Questionnaire | 180 | 15 | 45
Form 1630 | Naturalistic Study | 180 | 620 | 1,860
| Enrollment |  | 15 |
| Vehicle Familiarization |  | 60 |
| Baseline Planned Drive |  | 120 |
| L2 System Familiarization |  | 120 |
| Five Weekly Planned Drives |  | 150 |
| Post-Study Planned Drive |  | 120 |
| Usability Questionnaire |  | 5 |
| Debriefing |  | 30 |
Total |  |  |  | 2,305

Estimated Total Annual Burden Cost: NHTSA estimates the only cost burdens to respondents beyond the time spent on data collection activities are costs related to drives above and beyond their normal driving required by the study, which impose additional fuel costs. These cost burdens are expected to be offset by the monetary compensation that will be provided to all research participants. Participants will receive $100 after completion of the first session, $150 after completion of the baseline naturalistic driving, and $200 upon completion of the study. This compensation offsets both the participants time as well as the additional fuel costs, and the amount is in line with past similar efforts given the activities it requires of participants.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Issued in Washington, DC.
Nanda Narayanan Srinivasan,
Associate Administrator, Research and Program Development.

[FR Doc. 2022-15408 Filed 7-19-22; 8:45 am]

BILLING CODE 4910-59-P